FEDERAL ELECTION COMMISSION

Sunshine Act Meeting

AGENCY: Federal Election Commission.

DATE AND TIME: Tuesday, June 6, 2017 at 10:00 a.m. and its continuation at the conclusion of the open meeting on June 8, 2017.

PLACE: 999 E Street NW., Washington, DC.

STATUS: This meeting was closed to the public.

Federal Register Notice of Previous Announcement—82 FR 25288

Items Also Discussed

Matters relating to internal personnel decisions, or internal rules and practices.

Information for which disclosure would constitute an unwarranted invasion of privacy.

Investigatory records compiled for law enforcement purposes and production would disclose investigative techniques.

Information the premature disclosure of which would be likely to have a considerable adverse effect on the implementation of a proposed Commission action.

* * * * *

PERSON TO CONTACT FOR INFORMATION: Judith Ingram, Press Officer, Telephone: (202) 694-1220.

Laura E. Sinram,
Acting Deputy Secretary of the Commission.

[FR Doc. 2017-12212 Filed 6-8-17; 4:15 pm]

BILLING CODE 6715-01-P